DEPARTMENT OF COMMERCE

International Trade Administration

[A-580-816]

Certain Corrosion-Resistant Carbon Steel Flat Products from the Republic of Korea: Partial Rescission of Antidumping Duty Administrative Review

AGENCY: Import Administration, International Trade Administration, Department of Commerce.

SUMMARY: On September 10, 2007, the Department of Commerce (the Department) published its preliminary results of the administrative review of the antidumping duty order on certain corrosion-resistant carbon steel flat products (CORE) from the Republic of Korea (Korea) for the period from August 1, 2005, through July 31, 2006. See Certain Corrosion Resistant Carbon Steel Flat Products from the Republic of Korea: Notice of Preliminary Results and Partial Rescission of Antidumping Duty Administrative Review, 72 FR 51584 (September 10, 2007) (Preliminary Results). We are rescinding the review with respect to the Pohang Iron & Steel Company, Ltd. (POSCO) and Pohang Coated Steel Co., Ltd. (POCOS) (collectively, the POSCO Group).

EFFECTIVE DATE: October 15, 2007.

FOR FURTHER INFORMATION CONTACT: Victoria Cho at (202) 482-5075 or James Terpstra at (202) 482-3965, AD/CVD Operations, Office 3, Import Administration, International Trade Administration, U.S. Department of Commerce, 14th Street and Constitution Avenue, NW, Washington, DC 20230.

SUPPLEMENTARY INFORMATION: In the Preliminary Results, the Department inadvertently indicated that it planned to rescind the request for review of the antidumping order for the POSCO Group in the Final Results. On December 28, 2006, the petitioners¹ timely withdrew their request for an administrative review of the POSCO Group. It is the Department's practice to rescind an administrative review in a timely manner, in whole or part, if no other interested party submitted comments regarding the petitioners' timely withdrawal of their request for a review. See Notice of Partial Rescission of Antidumping Duty Administrative Review: Tenth Administrative Review of the Antidumping Duty Order on Certain Pasta from Italy, 72 FR 38060 (July 12, 2007), and also see Certain Pasta From Turkey: Notice of Rescission of Antidumping Duty Administrative Review, 69 FR 60356 (October 8, 2004). To facilitate the timely implementation of customs instructions, we are rescinding the review of the antidumping order for the POSCO Group.

¹ Petitioners are the United States Steel Corporation (U.S. Steel) and Mittal Steel USA ISG, Inc. (Mittal Steel USA).

Final Rescission of Administrative Review for the POSCO Group

As provided in 19 CFR 351.213(d)(1), “{t}he Secretary will rescind an administrative review under this section, in whole or in part, if a party that requested a review withdraws the request within 90 days of the date of publication of notice of initiation of the requested review.” The petitioners withdrew their request for an administrative review within 90 days of the date of publication of the notice of initiation of the instant administrative review and no other party requested an administrative review of the POSCO Group. No party commented on the petitioners' withdrawal. Therefore, the Department is rescinding the administrative review with respect to the POSCO Group.

Dated: October 2, 2007.
Stephen J. Claeys,
Deputy Assistant Secretary for Import Administration.

[FR Doc. E7-20261 Filed 10-12-07; 8:45 am]

BILLING CODE 3510-DS-S